DEPARTMENT OF JUSTICE

Antitrust Division

Notice Pursuant to the National Cooperative Research and Production Act of 1993—Open DeviceNet Vendor Association, Inc.

Notice is hereby given that, on September 5, 2008, pursuant to Section 6(a) of the National Cooperative Research and Production Act of 1993, 15 U.S.C. 4301 et seq. (“the Act”), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Specifically, LinkBASE, Seoul, REPUBLIC OF KOREA; Keyence Corporation, Tokyo, JAPAN; RocKontrol Industry Co., Ltd., Shanxi, PEOPLE'S REPUBLIC OF CHINA; Nichigoh Communication Electric Wire Co., Ltd., Osaka, JAPAN; CSE Servelec, Sheffield, UNITED KINGDOM; and Fluke Networks, Inc., Everett, WA have been added as parties to this venture.

Also, Spyder Controls Corp., Lacombe, Alberta, CANADA; APV Products Unna, Unna, DENMARK; and The Siemon Company, Watertown, CT have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on June 4, 2008. A notice was published in the Federal Register pursuant to Section 6(b) of the Act on July 16, 2008 (73 FR 40882)

Patricia A. Brink,
Deputy Director of Operations, Antitrust Division.

[FR Doc. E8-24801 Filed 10-20-08; 8:45 am]

BILLING CODE 4410-11-M